DEPARTMENT OF TRANSPORTATION

Federal Aviation Administration

Office of Commercial Space Transportation (AST); Notice of Availability of the Finding of No Significant Impact (FONSI) for the Federal Aviation Administration (FAA)/AST To Issue, Renew, or Modify Launch Operator Licenses for Atlas V Launch Vehicles Covered Under the Evolved Expendable Launch Vehicle (EELV) Program From Space Launch Complex-3 East (SLC-3E) at Vandenberg Air Force Base (VAFB), California

AGENCY: Federal Aviation Administration, Department of Transportation.

ACTION: Notice of Availability of the FONSI.

SUMMARY: In accordance with the National Environmental Policy Act (NEPA) of 1969, 42 United States Code 4321-4347 (as amended), Council on Environmental Quality (CEQ) NEPA implementing regulations (40 Code of Federal Regulations [CFR] Parts 1500-1508), and FAA Order 1050.1E, Change 1, the FAA is announcing the availability of a FONSI for the FAA/AST action to issue, renew, or modify Launch Operator Licenses for Atlas V launch operations from SLC-3E at VAFB. The FONSI is based on the analysis and findings of the 2003 United States Air Force (USAF) Final Environmental Assessment for the Atlas V System at SLC-3E (2003 EA).

In 1998, the USAF issued the 1998 Final Environmental Impact Statement for the EELV Program (1998 EIS) to evaluate the potential environmental impacts of the development, deployment, and operation of EELV systems (later known as the Atlas V and Delta IV launch vehicle families). In 2000, the USAF prepared the Supplemental Environmental Impact Statement for the EELV Program (2000 SEIS) to evaluate the potential environmental impacts of adding up to five solid-propellant strap-on rocket motors to the Atlas V launch vehicle and larger solid-propellant strap-on rocket motors on the Delta IV vehicle. The FAA participated as a cooperating agency in preparation of both the 1998 FEIS and 2000 SEIS.

In 2003, changes in USAF programs resulted in a need for SLC-3E at VAFB to be used for Atlas V launches rather than SLC-3W as originally planned, and therefore the USAF prepared the 2003 EA. The EA supplemented and updated the previous NEPA evaluation of implementing the Atlas V program as analyzed in the 1998 FEIS and 2000 SEIS. The 2003 EA analyzed the environmental impacts associated with the proposed action of modifying existing facilities and roadways and launching the Atlas V up to four times annually from SLC-3E at VAFB. The 2003 EA tiered its analyses from the 1998 FEIS and 2000 SEIS, and therefore both documents were incorporated by reference into the 2003 EA. The FAA did not participate as a cooperating agency with the USAF in preparation of the 2003 EA. Under the FAA's Proposed Action as stated in the FONSI, FAA/AST could issue, renew, or modify Launch Operator Licenses for Atlas V launch operations from SLC-3E at VAFB. A Launch Operator License would authorize launches of Atlas V vehicles over the five-year term of the license.

In accordance with the requirements of FAA Order 1050.1E, Change 1, paragraph 410, the FAA has independently evaluated the information contained in the 2003 EA and has verified the continued validity of the analysis contained in the EA. The FAA has determined that the discussion of Atlas V launch operations in the 2003 EA sufficiently addresses the concerns of the FAA and complies with FAA requirements for implementing NEPA as stated in FAA Order 1050.1E, Change 1. The FAA has determined that there is no new information or analysis that would require preparation of a new or supplemental EA or EIS according to the CEQ Regulations (40 CFR 1502.9(c)(1)). Therefore, the FAA issued the FONSI concurring with the analysis of impacts and findings in the 2003 EA and formally adopts the launch operations discussion in the EA in compliance with the requirements of 40 CFR 1506.3 to support the issuance, renewal, or modification of Launch Operator Licenses for Atlas V launch operations from SLC-3E at VAFB. The 2003 EA is incorporated by reference and is summarized as necessary in the FONSI.

The FAA has posted the FONSI on the Internet at http://www.faa.gov/about/office_org/headquarters_offices/ast/.

FOR FURTHER INFORMATION CONTACT: Mr. Daniel A. Czelusniak, Environmental Program Lead, Office of Commercial Space Transportation, Federal Aviation Administration, 800 Independence Ave., SW., Room 325, Washington, DC 20591, telephone (202) 267-5924; E-mail Daniel.Czelusniak@faa.gov.

Issued in Washington, DC, on August 12, 2011.
Michael McElligott,
Manager, Space Transportation Development Division.

[FR Doc. 2011-21048 Filed 8-17-11; 8:45 am]

BILLING CODE 4910-13-P